DEPARTMENT OF AGRICULTURE

Food Safety and Inspection Service

[Docket No. 05-014N]

New Technology Web Site Contents; Response to Comments

AGENCY: Food Safety and Inspection Service, USDA.

ACTION: Notice.

SUMMARY: The Food Safety and Inspection Service (FSIS) is announcing the availability on its Web site of information regarding new technologies for use in the production of meat, poultry, and egg products that the Agency has received and for which FSIS has written a “No Objection” letter. The Web site will include brief descriptions of the new technologies. The availability of this information should increase public and industry awareness of new technologies and foster their use by small and very small plants.

DATES: This notice is effective November 18, 2005.

FOR FURTHER INFORMATION CONTACT: Shaukat H. Syed, D.V.M., Director, New Technology Staff, Office of Policy, Program, and Employee Development, FSIS, U.S. Department of Agriculture, Room 2932, South Agriculture Building, 1400 Independence Avenue, SW., Washington, DC 20250-3700; telephone (202) 205-0675, facsimile (202) 205-0080.

SUPPLEMENTARY INFORMATION: FSIS has a longstanding interest in technologies used in livestock and poultry slaughter and in meat and poultry and egg product processing establishments. The development and proper use of technology can contribute significantly to improvements in the safety of the food supply, especially with regard to reducing threats posed by pathogenic microorganisms.

FSIS defines the term “new technology” as new, or new applications of, equipment, substances, methods, processes, or procedures affecting the slaughter of livestock and poultry or processing of meat, poultry, or egg products. New technologies have resulted in significant improvements in the food safety of meat and poultry products in recent years.

On February 11, 2003, FSIS published a notice in the Federal Register titled “FSIS Procedures for Notification of New Technology” (68 FR 6873). This notice established new, flexible procedures to encourage the development and use of new technologies in livestock and poultry slaughter establishments and in meat, poultry, and egg product processing establishments.

On August 12, 2003, the Under Secretary for Food Safety announced the formation of the New Technology Staff (NTS). Located within FSIS, the NTS is charged with reviewing new technologies that companies intend to use in the slaughter of livestock and poultry and in the processing of meat, poultry, and egg products. Review by the NTS is intended to ensure that the use of new technologies is consistent with Agency regulations, and that the technologies will not adversely affect product safety, inspection procedures, or the safety of FSIS inspection program personnel.

On February 19, 2004, FSIS posted on its Web site at http://www.fsis.usda.gov/regulations_&_policies/New_TechnologyNotification&ProtocolSubmission//index./asp a document titled “Guidance Procedures for Notification and Protocol Submission of New Technology.” This guidance document was intended to assist establishments in determining whether they need to notify FSIS of new technologies that they propose to use in livestock and poultry slaughter and in meat, poultry, and egg product processing establishments. This document also was intended to provide guidance on when establishments need to submit protocols for in-plant testing of new technologies. This guidance document replaced the procedures outlined in FSIS' Federal Register notice of February 11, 2003 (68 FR 6873).

On April 14, 2005, FSIS posted on its Web site at http://www.fsis.usda.gov/regulations_&_policies/New_Technologies/index.asp a document titled “Guidance on Requesting a Waiver of Food Safety and Inspection Service Regulatory Requirements for the Use of New Technology.” This guidance on requesting a waiver informs meat and poultry slaughter and processing, egg product establishments, and other interested persons of the procedure for obtaining a regulatory waiver for a limited period of time to test their new technology.

On April 14, 2005, FSIS also posted on its Web site at http://www.fsis.usda.gov/regulations_&_policies/New_Technologies/index.asp a document titled “Standard Operating Procedures for Notification and Protocol Submission of New Technologies.” This document specifies the standard operating procedures (SOPs) of the FSIS' NTS when an official meat and poultry (slaughter or processing), egg product establishment, or company that manufactures technology for use in official establishments submits a notification to the Agency of its intent to use a new technology or submits a protocol to the Agency for an in-plant trial of a new technology.

In an effort to encourage small and very small plants to use new technologies to achieve advances in food safety and in response to comments received at a public meeting on January 13, 2004, FSIS issued a Federal Register notice on June 18, 2004, announcing “New Technology Web Site Contents” and its intention to post on its Web site information regarding the use of new technologies in the production of meat, poultry, and egg products (69 FR 34119). The notice asked for comments on the value of the information to the public and the detrimental effects to a company if this information were made publicly available. Specifically, FSIS proposed posting on its Web site summaries of information about new technologies received by FSIS that are the subject of notifications. The summaries would provide brief descriptions of the new technologies that are the subjects of the notifications and protocols received from industry and would include the name of the submitter.

Access to this new technologies Web site would be especially valuable to small and very small establishments, which often have only small or no research budgets or other resources for exploring technologies that could enhance their operating procedures; make them more effective and efficient; increase food safety; and increase the establishment's security. The new technologies Web site will provide all establishments, but especially small and very small plants, with a cost effective way of learning what new technologies the Agency has received and with respect to whose use FSIS has written a “No Objection” letter. Having access to this information would allow establishments to be aware of, in a cost effective and timely manner, which new technologies may be appropriate for use in their facilities.

In response to the notice, FSIS received two comments. After reviewing these comments, FSIS has decided to post on its Web site summary information about the new technologies that the Agency has reviewed and for which it has issued a “No Objection” letter.

Comments and Responses

Comment: One commenter stated that FSIS should not disclose technical information pertaining to the new technology but should post only the project name, submitter's name, and the “No Objection” letter date. The commenter stated that investment in the development of a new technology may exceed several hundred thousand dollars, and that this development work and investment should be protected. The commenter was concerned about disclosure of technical information. The commenter also stated that it is not the role of FSIS to be concerned about sharing new technologies developed by a company with other companies within the industry.

Response: FSIS understands and appreciates the amount of time and money needed to develop a new technology and to submit a notification or a protocol to FSIS. FSIS also understands and appreciates an establishment's concern about disclosure of technical information. FSIS believes, however, that sharing brief summary information on its Web site will not reveal any proprietary information but will promote industry awareness of technical innovations and encourage adoption of new ideas. Food safety is the mission of FSIS, and continued improvements in food safety will be achieved through the development and use of new technologies.

Comment: The second commenter was opposed to the posting of any information about new technologies under review by FSIS that are intended to be used in the manufacture of meat, poultry, and egg products. The commenter stated that the information contained in the notifications and protocols is proprietary.

Response: FSIS recognizes that a notification or protocol of a new technology may contain proprietary information. To protect this proprietary information from disclosure, FSIS intends to provide only a brief description of the new technology on the Web site and to post that description only after the Agency's review is complete. If a submitter is concerned about the disclosure of proprietary information or a trade secret, the submitter may provide a brief description of the new technology for posting on the Web site.

The FSIS New Technology Web site will contain a listing of new technologies for which the Agency, after review, has issued a “No Objection” letter, which states that the Agency does not object to the use of the new technology. The Web site listing will provide the name of the company and a brief summary of the new technology, either provided by the submitting company or prepared by the Agency based on data provided by the submitter. The Web site listing will be updated on a weekly basis, and new technologies posted will remain on the Web site for a period of twelve months.

Once the Agency determines that it has no objection to the use of a proposed new technology, it sends the submitting company a “No Objection” letter. The letter will include the description of the new technology that the Agency intends to post to the Web site. The letter will state that, if the company does not object within five (5) working days from the date it receives the letter, the Agency will post the included description of the technology on the Web site. If the company objects to the description, it should state that it objects to the description, explain the basis for its objection (e.g., proprietary agreement, confidential commercial information, etc.), and provide an alternate description. FSIS will post the alternate description, unless the Agency concludes that the description does not fairly describe the technology. In such a case, FSIS will post the description that it prepared. FSIS will notify the company of its decision.

Paperwork Reduction Act Requirements

FSIS has reviewed the paperwork and recordkeeping requirements in this notice in accordance with the Paperwork Reduction Act (44 U.S.C. 3501-3520). FSIS has previously received approval from the Office of Management and Budget, under control number 0583-0127, to collect the information discussed in this notice. No new paperwork or recordkeeping requirements are being imposed on the industry as a result of this notice.

Additional Public Notification

Public awareness of all segments of rulemaking and policy development is important. Consequently, in an effort to ensure that the public and in particular minorities, women, and persons with disabilities, are aware of this notice, FSIS will announce it on-line through the FSIS Web page located at http://www.fsis.usda.gov/regulations/2005_Notices_Index/. FSIS also will make copies of this Federal Register publication available through the FSIS Constituent Update, which is used to provide information regarding FSIS policies, procedures, regulations, Federal Register notices, FSIS public meetings, recalls, and other types of information that could affect or would be of interest to our constituents and stakeholders. The new technology update is communicated via Listserv, a free e-mail subscription service consisting of industry, trade, and farm groups, consumer interest groups, allied health professionals, scientific professionals, and other individuals who have requested to be included. The new technology update is also available on the FSIS Web page. Through Listserv and the Web page, FSIS is able to provide information to a much broader, more diverse audience. In addition, FSIS offers an e-mail subscription service which provides an automatic and customized notification when popular pages are updated, including Federal Register publications and related documents. This service is available at http://www.fsis.usda.gov/news_and_events/email_subscription/ and allows FSIS customers to sign up for subscription options across eight categories. Options range from recalls to export information to regulations, directives and notices. Customers can add or delete subscriptions themselves and have the option to password protect their account.

Done at Washington, DC on October 14, 2005.
Barbara J. Masters,
Administrator.

[FR Doc. 05-20908 Filed 10-18-05; 8:45 am]

BILLING CODE 3410-DM-P